DEPARTMENT OF ENERGY

[Docket No. 16-28-LNG]

Venture Global Plaquemines LNG, LLC; Application for Limited Amendment to Existing Long-Term, Multi-Contract Authorization To Export Liquefied Natural Gas to Non-Free Trade Agreement Nations

AGENCY: Office of Fossil Energy and Carbon Management, Department of Energy.

ACTION: Notice of application.

SUMMARY: The Office of Fossil Energy and Carbon Management (FECM) (formerly the Office of Fossil Energy) of the Department of Energy (DOE) gives notice (Notice) of receipt of an application (Application), filed on March 11, 2022, by Venture Global Plaquemines LNG, LLC (Plaquemines LNG). In relevant part, Plaquemines LNG requests a limited amendment of its existing authorization to export domestically produced liquefied natural gas (LNG) to non-free trade agreement (non-FTA) countries, issued in Order No. 4446 (as amended in Order No. 4446-A). The amendment would increase Plaquemines LNG's approved non-FTA export volume from 1,240 billion cubic feet per year (Bcf/yr) to 1,405.33 Bcf/yr of natural gas—an increase of 165.33 Bcf/yr. Plaquemines LNG filed the Application under the Natural Gas Act (NGA).

DATES: Protests, motions to intervene, or notices of intervention, as applicable, and written comments are to be filed electronically as detailed in the Public Comment Procedures section no later than 4:30 p.m., Eastern time, July 11, 2022.

ADDRESSES:

Electronic Filing by email: fergas@hq.doe.gov.

Although DOE has routinely accepted public comment submissions through a variety of mechanisms, including postal mail and hand delivery/courier, DOE has found it necessary to make temporary modifications to the comment submission process in light of the ongoing Covid-19 pandemic. DOE is currently accepting only electronic submissions at this time. If a commenter finds that this change poses an undue hardship, please contact Office of Resource Sustainability staff at (202) 586-4749 or (202) 586-7893 to discuss the need for alternative arrangements. Once the Covid-19 pandemic health emergency is resolved, DOE anticipates resuming all of its regular options for public comment submission, including postal mail and hand delivery/courier.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (202) 586-9793 cassandra.bernstein@hq.doe.gov.

SUPPLEMENTARY INFORMATION: In Order No. 4446-A, Plaquemines LNG is currently authorized under NGA section 3(a) ¹ to export domestically produced LNG in a volume equivalent to 1,240 Bcf/yr of natural gas from the Plaquemines LNG Project (the Project), which Plaquemines LNG states is currently under construction in Plaquemines Parish, Louisiana.² Plaquemines LNG is authorized to export this LNG by vessel to any country with which the United States has not entered into a free trade agreement (FTA) requiring national treatment for trade in natural gas, and with which trade is not prohibited by U.S. law or policy (non-FTA countries), for a term extending through December 31, 2050.³

¹ 15 U.S.C. 717b(a).

² Venture Global Plaquemines LNG, LLC, DOE/FE Order No. 4446, Docket No. 16-28-LNG, Opinion and Order Granting Long-Term Authorization to Export Liquefied Natural Gas to Non-Free Trade Agreement Nations (Oct. 16, 2019), amended by DOE/FE Order No. 4446-A (Oct. 21, 2020) (extending export term).

³ Id.

In the Application, as relevant here,⁴ Plaquemines LNG asks DOE to amend Order No. 4446 (as amended) to increase its non-FTA export volume from 1,240 Bcf/yr to 1,405.33 Bcf/yr of natural gas. According to Plaquemines LNG, this increase reflects a refinement in the final design of the Project. Plaquemines LNG states that it is contemporaneously filing an application with the Federal Energy Regulatory Commission (FERC) to amend its NGA section 3 authorization to increase the Project's authorized peak liquefaction capacity under optimal conditions to 27.2 million metric tons per annum of LNG, or approximately 1,405.33 Bcf/yr of natural gas. Plaquemines LNG states that it seeks to increase its authorized export volume to align with the increased peak liquefaction capacity proposed to FERC.

⁴ This Notice applies only to the portion of the Application requesting an amendment to Plaquemines LNG's non-FTA order. DOE will review separately the portion of the Application requesting an amendment to its existing authorization to export LNG to FTA countries, pursuant to section 3(c) of the NGA, 15 U.S.C. 717b(c).

Plaquemines LNG states that the proposed increase in its non-FTA export volume will not require the construction of any new facilities or the modification of the previously authorized Project facilities.

Additional details can be found in Plaquemines LNG's Application, posted on the DOE website at: https://www.energy.gov/sites/default/files/2022-03/Plaquemines%20LNG%20DOE%20Amendment%20Application%20re%20Peak%20Liquefaction.pdf.

DOE Evaluation

In reviewing the Application, DOE will consider any issues required by law or policy. DOE will consider domestic need for the natural gas, as well as any other issues determined to be appropriate, including whether the arrangement is consistent with DOE's policy of promoting competition in the marketplace by allowing commercial parties to freely negotiate their own trade arrangements. As part of this analysis, DOE will consider the study entitled, Macroeconomic Outcomes of Market Determined Levels of U.S. LNG Exports (2018 LNG Export Study),⁵ and DOE's response to public comments received on that Study.⁶

⁵ See NERA Economic Consulting, Macroeconomic Outcomes of Market Determined Levels of U.S. LNG Exports (June 7, 2018), available at: www.energy.gov/sites/prod/files/2018/06/f52/Macroeconomic%20LNG%20Export%20Study%202018.pdf.

⁶ U.S. Dep't of Energy, Study on Macroeconomic Outcomes of LNG Exports: Response to Comments Received on Study; Notice of Response to Comments, 83 FR 67251 (Dec. 28, 2018).

Additionally, DOE will consider the following environmental documents:

• Addendum to Environmental Review Documents Concerning Exports of Natural Gas From the United States, 79 FR 48132 (Aug. 15, 2014); ⁷

⁷ The Addendum and related documents are available at: https://energy.gov/fe/draft-addendum-environmental-review-documents-concerning-exports-natural-gas-united-states.

• Life Cycle Greenhouse Gas Perspective on Exporting Liquefied Natural Gas From the United States, 79 FR 32260 (June 4, 2014); ⁸ and

⁸ The 2014 Life Cycle Greenhouse Gas Report is available at: https://energy.gov/fe/life-cycle-greenhouse-gas-perspective-exporting-liquefied-natural-gas-united-states.

• Life Cycle Greenhouse Gas Perspective on Exporting Liquefied Natural Gas From the United States: 2019 Update, 84 FR 49278 (Sept. 19, 2019), and DOE's response to public comments received on that study.⁹

⁹ U.S. Dep't of Energy, Life Cycle Greenhouse Gas Perspective on Exporting Liquefied Natural Gas From the United States: 2019 Update—Response to Comments, 85 FR 72 (Jan. 2, 2020). The 2019 Update and related documents are available at: https://fossil.energy.gov/app/docketindex/docket/index/21.

Parties that may oppose this Application should address these issues and documents in their comments and protests, as well as other issues deemed relevant to the Application.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable. Interested parties will be provided 60 days from the date of publication of this Notice in which to submit comments, protests, motions to intervene, or notices of intervention.

Any person wishing to become a party to the proceeding must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590, including the service requirements.

As noted, DOE is only accepting electronic submissions at this time. Please email the filing to fergas@hq.doe.gov. All filings must include a reference to “Docket No. 16-28-LNG” or “Venture Global Plaquemines LNG, LLC” in the title line.

Please Note: Please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Application and any filed protests, motions to intervene, notices of interventions, and comments will also be available electronically by going to the following DOE Web address: https://www.energy.gov/fecm/division-natural-gas-regulation.

A decisional record on the Application will be developed through responses to this Notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this Notice, in accordance with 10 CFR 590.316.

Signed in Washington, DC, on May 6, 2022.
Amy Sweeney,
Director, Office of Regulation, Analysis, and Engagement Office of Resource Sustainability.

[FR Doc. 2022-10169 Filed 5-11-22; 8:45 am]

BILLING CODE 6450-01-P